DEPARTMENT OF THE INTERIOR

Bureau of Indian Affairs

New Agency Information Collection for the Bureau of Indian Education Medication Authorization and Incident Report Forms

[167A2100DD.AADD001000.A0E501010.999900]

AGENCY: Bureau of Indian Affairs, Interior.

ACTION: Notice of new information collection and request for comments.

SUMMARY: In compliance with the Paperwork Reduction Act of 1995, the Bureau of Indian Education (BIE) is seeking comments and will ask the Office of Management and Budget (OMB) for approval on the new collection of information, Bureau of Indian Education Medication Authorization and Incident Report Forms.

DATES: Submit comments on or before October 31, 2016.

ADDRESSES: You may submit comments on the information collection to Ms. Juanita Mendoza, Program Analyst, Bureau of Indian Education, U.S. Department of the Interior, 1849 C Street NW., MS: #4656 MIB, Washington, DC 20240; or email to: Juanita.Mendoza@bie.edu. Please mention that your comments concern the Medication Authorization and Incident Report Forms, OMB Control Number 1076-NEW.

FOR FURTHER INFORMATION CONTACT: To request a copy of the information collection request, and any explanatory information, see the contact information provided in the ADDRESSES section above. The related forms can be viewed at http://www.bia.gov/WhoWeAre/AS-IA/ORM/InformationCollections/index.htm.

SUPPLEMENTARY INFORMATION:

I. Abstract

The BIE is seeking approval of the new information collection, titled “Bureau of Indian Education Medication Authorization and Incident Report Forms.” The BIE has the sole responsibility for the operation and financial support of the Bureau-operated school system that it has established on or near Indian reservations throughout the Nation for Indian children, as authorized in 25 U.S.C. 2000. Currently, the BIE oversees a total of 183 elementary, secondary, residential and peripheral dormitories across 23 states. Of the total number of schools, 130 schools are tribally controlled under Public Law 93-638 Indian Self-Determination Contracts or Public Law 100-297 Tribally Controlled Grant Schools Act; and 53 Schools are operated by the BIE.

In August 2014, under the Ortiz v. Sky City Community School and the Bureau of Indian Education, Docket No. IDEA 2014-02, a resolution agreement was entered by both parties. As part of the resolution agreement, BIE is developing and implementing a policy which will allow Bureau-operated schools to collect necessary documentation to administer over-the-counter medication and document medication administration incidents. In addition, there will be two standard forms: (1) To provide authorization for administering medication titled as “Authorization to Administer Prescribed/Over-the-Counter Medication,” and (2) for notification to parents/guardians of any medication incidents titled as “Medication Incident Report.”

The information is necessary to document a request for medication administration by the parent/guardian and to provide guidance regarding the type of medication and how it may be administered. School personnel must have detailed information about the medication a student receives so it can be administered correctly. School personnel must also verify the medication a student is receiving has been approved and/or prescribed by a licensed physician. The authorization form is required every school year for each new or continuing order or if there is a change in dosage or time of administration during the school year. The medication incident report will be completed as needed, by school personnel and notification to parents of medication incidents. The BIE will only require the use of the two forms under this collection of information by the Bureau-operated schools. Schools controlled under Public Law 93-638 Indian Self-Determination Contracts or Public Law 100-97 Tribally Controlled Grant Schools Act, may adopt the policy and implement within their school system. The data will be maintained by each Bureau-operated school.

The information collected on these forms are covered by the Family Education Rights and Privacy Act of 1974, 20 U.S.C. 1232(g), and Health Insurance Portability and Accountability Act of 200, 15 U.S.C. 1693(b). The information collected is subject to the system of records notice “Native American Student Information System, BIA—22” referenced as 73 FR 40605 dated July 15, 2008. The burden hours for this new collection of information are reflected in the Estimated Total Annual Hour Burden in this notice.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-NEW.

Title: Bureau of Indian Education Medication Authorization and Incident Report Forms.

Brief Description of Collection: BIE is implementing a policy which will allow Bureau-operated schools to collect necessary documentation to administer over-the-counter medication. School personnel must have detailed information about the medication a student receives so it can be administered correctly and must verify the medication a student is receiving has been approved and/or prescribed by a licensed physician. The school is also required to document medication administration incidents, on an as needed basis, for student health purposes and notification to parents/guardians of child medication incident.

Type of Review: New collection (Request for a New OMB Control Number).

Respondents: Bureau-operated School Personnel and parents/guardians of child attending Bureau-operated school.

Number of Respondents: 53 per year.

Estimated Number of Responses: 55 per year.

Estimated Time per Response: Ranges from 30 minutes to 45 minutes.

Frequency of Response: Required every school year for each new or continuing order or if there is a change in dosage or time of administration during the school year. The medication incident report will be complete as needed, by school personnel and notification to parents of medication incidents.

Obligation To Respond: Voluntary.

Estimated Total Annual Hour Burden: 29 hours.

Estimated Total Annual Non-Hour Dollar Cost: $0.

Elizabeth K. Appel,
Director, Office of Regulatory Affairs and Collaborative Action—Indian Affairs.

[FR Doc. 2016-20816 Filed 8-29-16; 8:45 am]

BILLING CODE 4337-15-P